FEDERAL TRADE COMMISSION

Delegation of Authority to Disclose Certain Nonpublic Information to Consumer Reporting Agencies

AGENCY: Federal Trade Commission (FTC).

ACTION: Delegation of authority.

SUMMARY: The Commission has delegated authority to the Director of the Bureau of Consumer Protection, subject to redelegation, to share certain non-public information with consumer reporting agencies.

EFFECTIVE DATE: July 28, 2003.

FOR FURTHER INFORMATION CONTACT: Monique F. Einhorn, Attorney, Division of Planning and Information, 202-326-2575, meinhorn@ftc.gov.

SUPPLEMENTARY INFORMATION: Notice is hereby given, pursuant to Reorganization Plan No. 4 of 1961, 26 FR 6191, that the Commission has delegated to the Director of the Bureau of Consumer Protection, subject to redelegation, the authority to disclose consumer complaint information from the Identify Theft Data Clearinghouse and Consumer Information System databases to consumer reporting agencies. The consumer complaint information will be disclosed to promote resolution of the complaints.

This delegation does not apply to competition-related investigations. When exercising its authority under this delegation, staff will require from the consumer reporting agency assurances of confidentiality. Disclosures shall be made only to the extent consistent with limitations on disclosure, including section 6(f) of the FTC Act, 15 U.S.C. 46(f), section 21 of the Act, 15 U.S.C. 57b-2, and Commission Rule 4.10(d), 16 C.F.R. 4.10(d), and with the Commission's enforcement policies and other important interests.¹

¹ The Commission's authority to share is consistent with the Privacy Act of 1974, as amended, 5 U.S.C. 552a, and section 5 of the Identity Theft and Assumption Deterrence Act of 1998, Pub. L. 105-318, 112 Stat. 3007, 3010, 18 U.S.C. 1028 note. See 58 FR 45678, 45700 (1992); 64 FR 57887 (1999) (FTC Privacy Act system notices for consumer compliant system generally and identity theft complaint system specifically, specifying routine uses of system records).

The delegation will first be exercised on the date of the first disclosure and will continue for twelve (12) months thereafter.

By direction of the Commission.
Donald S. Clark,
Secretary.

[FR Doc. 03-19997 Filed 8-5-03; 8:45 am]

BILLING CODE 6750-01-M